DEPARTMENT OF THE TREASURY

Office of Foreign Assets Control

Sanctions Actions Pursuant to Executive Order 13667

AGENCY: Office of Foreign Assets Control, Treasury.

ACTION: Notice.

SUMMARY: The Treasury Department's Office of Foreign Assets Control (OFAC) is publishing the names of three individuals and two entities, and supplemental information for one individual, whose property and interests in property are blocked pursuant to Executive Order (E.O.) 13667 and whose names have been added to OFAC's list of Specially Designated Nationals and Blocked Persons (SDN List). OFAC is also removing the name of one individual, whose property and interests in property were blocked pursuant to E.O. 13667, from the SDN List.

DATES: OFAC's actions described in this notice were effective August 21, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On August 21, 2015, OFAC blocked the property and interests in property of the following three individuals and two entities pursuant to E.O. 13667, “Blocking Property of Certain Persons Contributing to the Conflict in the Central African Republic”:

Individuals

1. YOUNOUS, Oumar (a.k.a. ABDOULAY, Oumar Younnes; a.k.a. ABDOULAY, Oumar Younous; a.k.a. M'BETIBANGUI, Oumar Younous; a.k.a. SODIAM, Oumar; a.k.a. YOUNOUS, Omar; a.k.a. YUNUS, `Umar), Bria, Haute-Kotto Prefecture, Central African Republic; Birao, Vakaga Prefecture, Central African Republic; Darfur, Sudan; DOB 02 Apr 1970; POB Tullus, Southern Darfur, Sudan; nationality Sudan; Passport D00000898 issued 04 Nov 2013 (individual) [CAR].

2. SOUSSOU, Habib (a.k.a. ABIB, Soussou; a.k.a. HABIB, Soussou; a.k.a. SAIDOU, Habib), Boda, Lobaye Prefecture, Central African Republic; DOB 13 Mar 1980; nationality Central African Republic (individual) [CAR].

3. YEKATOM, Alfred (a.k.a. EKATOM, Alfred; a.k.a. SARAGBA, Alfred; a.k.a. YEKATOM SARAGBA, Alfred; a.k.a. “Rambo”; a.k.a. “Rambot”; a.k.a. “Rombhot”; a.k.a. “Romboh”; a.k.a. “Rombot”), Mbaiki, Lobaye Prefecture, Central African Republic; Bimbo, Ombella-Mpoko Prefecture, Central African Republic; DOB 23 Jun 1976; POB Central African Republic; nationality Central African Republic (individual) [CAR].

Entities

1. BADICA (a.k.a. BUREAU D'ACHAT DE DIAMANT EN CENTRAFRIQUE), BP 333, Bangui, Central African Republic [CAR].

2. KARDIAM (a.k.a. CARDIAM; a.k.a. KARDIAM BVBA), Hoveniersstraat 30, Box 145, Antwerp 2018, Belgium; Email Address kardiam.bvba@skynet.be; V.A.T. Number 0430.033.662 (Belgium); Branch Unit Number 2030.515.945 (Belgium); Enterprise Number 0430.033.662 (Belgium) [CAR].

OFAC supplemented the identification information for one individual whose property and interests in property are blocked pursuant to E.O. 13667. The supplemental identification information for the individual is as follows:

MISKINE, Abdoulaye (a.k.a. KOUMTA MADJI, Martin; a.k.a. KOUMTAMADJI, Martin Nadingar; a.k.a. NKOUMTAMADJI, Martin), Congo, Republic of the; DOB 05 Oct 1965; alt. DOB 03 Mar 1965; POB Kobo, Central African Republic; alt. POB Ndinaba, Chad; nationality Chad; General (individual) [CAR].

OFAC removed the following individual from the SDN List:

YAKITE, Levi (a.k.a. YAKETE, Levy; a.k.a. YAKITE, Levy), Cameroon; DOB 1965; Anti-Balaka Political Coordinator (individual) [CAR].

Dated: August 21, 2015.
Andrea M. Gacki,
Acting Director, Office of Foreign Assets Control.

[FR Doc. 2015-21114 Filed 8-25-15; 8:45 am]

BILLING CODE 4810-AL-P